DEPARTMENT OF EDUCATION

[Docket No. ED-2020-SCC-0107]

Agency Information Collection Activities; Submission to the Office of Management and Budget for Review and approval; Comment Request; Education Stabilization Fund—Reimagine Workforce Preparation Grants

AGENCY: Office of Career, Technical and Adult Education, Department of Education (ED).

ACTION: Notice.

SUMMARY: In accordance with the Paperwork Reduction Act of 1995, ED is proposing a new information collection.

DATES: Interested persons are invited to submit comments on or before August 6, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Braden Goetz, 202-245-7405.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Education Stabilization Fund—Reimagine Workforce Preparation Grants.

OMB Control Number: 1830-NEW.

Type of Review: New information collection.

Respondents/Affected Public: State, Local or Tribal Governments.

Total Estimated Number of Annual Responses: 40.

Total Estimated Number of Annual Burden Hours: 1,600.

Abstract: This is a request for approval of an information collection which solicits applications for Education Stabilization Fund—Reimagine Workforce Preparation Grants (ESF-RWP), which is authorized by section 18001(a)(3) of Division B of the Coronavirus Aid, Relief, and Economic Security Act (CARES Act). The collection request includes a notice inviting applications and an accompanying application package. These documents set out the selection criteria used to assess the quality of applications and establish application requirements and the performance indicators on which grantees must report. This discretionary grant falls under the Streamlined Clearance Process for Discretionary Grant Information Collections, 1894-0001.

Dated: June 30, 2020.
Kate Mullan,
PRA Coordinator, Strategic Collections and Clearance, Governance and Strategy Division, Office of Chief Data Officer, Office of Planning, Evaluation and Policy Development.

[FR Doc. 2020-14470 Filed 7-6-20; 8:45 am]

BILLING CODE 4000-01-P